DEPARTMENT OF COMMERCE

National Oceanic and Atmospheric Administration

Agency Information Collection Activities; Submission to the Office of Management and Budget (OMB) for Review and Approval; Comment Request; Southeast Region Dealer and Interview Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 24th, 2024 during a 60-day comment period. This notice allows for an additional 30 days for public comments.

Agency: National Oceanic and Atmospheric Administration, Commerce.

Title: Southeast Region Dealer and Interview Family of Forms.

OMB Control Number: 0648-0013.

Form Number(s): NOAA Form 88-12B.

Type of Request: Regular submission [revision and renewal of a current information collection].

Number of Respondents: 1,829.

Average Hours per Response: Dealer reporting for monitoring Federal fishery annual catch limits (ACLs): coastal fisheries dealers reporting, 10 minutes; mackerel dealer reporting (gillnet), 10 minutes. Bio profile data from Trip Interview programs (TIP): Fin Fish interviews, 10 minutes.

Total Annual Burden Hours: 1,826.

Needs and Uses: This request is for a revision and renewal of a current information collection. Fishery quotas are established for many species in the fishery management plans developed by the Gulf of Mexico Reef Fish Fishery Management Council, the South Atlantic Fishery Management Council, and The Caribbean Fishery Management Council. The Southeast Fisheries Science Center has been delegated the responsibility to monitor these quotas. To do so in a timely manner, seafood dealers that handle these species are required to report the purchases (landings) of these species. It was discovered that the USVI trip interviews were being double counted with the Vessel trip interviews. We have made the changes to remove the USVI interviews for accuracy.

The frequency of these reporting requirements varies depending on the magnitude of the quota (e.g., lower quota usually requires more frequent reporting) and the intensity of fishing effort. The most common reporting frequency is weekly. Daily reporting is only used for one fishery. In addition, information collection included in this family of forms includes interview with fishermen to gather information on the fishing effort, location and type of gear used on individual trips. This data collection is conducted for a subsample of the fishing trips and vessel/trips in selected commercial fisheries in the Southeast region and commercial fisheries of the US Caribbean. Fishing trips and individuals are selected at random to provide a viable statistical sample. These data are used for scientific analyses that support critical conservation and management decisions made by national and international fishery management organizations. This data collection is authorized under 50 CFR part 622.5.

Affected Public: Business and other for-profit organizations.

Frequency: Dealer reporting for monitoring Federal fishery annual catch limits (ACLs) are estimated to transmit data 173 times annually. Vessels selected for Trip Interview programs (TIP): Fin Fish interviews are estimated to be encountered 2.3 times annually.

Respondent's Obligation: Mandatory.

Legal Authority: 50 CFR part 622.5.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0013.

Sheleen Dumas,
Department PRA Clearance Officer, Office of the Under Secretary for Economic Affairs, Commerce Department.

[FR Doc. 2024-08070 Filed 4-15-24; 8:45 am]

BILLING CODE 3510-22-P